DEPARTMENT OF COMMERCE

International Trade Administration

[A-583-830]

Preliminary Rescission of Antidumping Duty Administrative Review: Stainless Steel Plate in Coils from Taiwan

AGENCY: Import Administration, International Trade Administration, Department of Commerce.

ACTION: Notice of the Preliminary Rescission of Antidumping Duty Administrative Review of Stainless Steel Plate in Coils from Taiwan.

SUMMARY: On July 1, 2003, the Department of Commerce (“Department”) published a notice of initiation of an antidumping duty administrative review on stainless steel plate in coils from Taiwan. See Notice of Initiation of Antidumping and Countervailing Duty Administrative Reviews and Request for Revocation in Part (“Notice of Initiation”) 68 FR 39055 (July 1, 2003). This review covers two manufacturers/exporters of the subject merchandise, Yieh United Steel Corporation (“YUSCO”), a Taiwan producer and exporter of subject merchandise, and Ta Chen Stainless Pipe Co., Ltd. (“Ta Chen”), a Taiwan producer and exporter of subject merchandise. The period of review (“POR”) is May 1, 2002 through April 30, 2003. We are preliminarily rescinding this review based on evidence on the record indicating that there were no entries into the United States of subject merchandise during the POR from the respondents.

EFFECTIVE DATE: December 16, 2003.

FOR FURTHER INFORMATION CONTACT: Catherine Bertrand or Lilit Astvatsatrian, Enforcement Group III, Office 9, Import Administration, International Trade Administration, U.S. Department of Commerce, 1401 Constitution Avenue, NW., Washington, DC 20230, telephone 202-482-3207 or 202-482-6412, respectively.

SUPPLEMENTARY INFORMATION:

Background

On May 21, 1999, the Department of Commerce (“Department”) published the antidumping duty order on stainless steel plate in coils from Taiwan. See Antidumping Duty Orders; Certain Stainless Steel Plate in Coils From Belgium, Canada, Italy, the Republic of Korea, South Africa, and Taiwan, 64 FR 27756 (May 21, 1999). On May 1, 2003, the Department published a notice of opportunity to request an administrative review of this order for the period May 1, 2002 through April 30, 2003. See Notice of Opportunity to Request Administrative Review of Antidumping or Countervailing Duty Order, Finding, or Suspended Investigation, 68 FR 23281 (May 1, 2003). On May 30, 2003, petitioners¹ timely requested that the Department conduct an administrative review of sales by YUSCO, a Taiwan producer and exporter of subject merchandise, and Ta Chen, a Taiwan producer and exporter of subject merchandise. On July 1, 2003, in accordance with section 751(a) of the Tariff Act of 1930 as amended (“the Act”), the Department published in the Federal Register a notice of initiation of this antidumping duty administrative review of sales by YUSCO and Ta Chen for the period May 1, 2002 through April 30, 2003. See Notice of Initiation.

¹ Allegheny Ludlum, AK Steel Corporation, Butler Armco Independent Union, United Steelworkers of America, AFL-CIO/CLC, and Zanesville Armco Independent Organization are collectively "petitioners" for this review.

On July 3, 2003, the Department issued its antidumping duty questionnaire to YUSCO and Ta Chen. On August 19, 2003, Ta Chen stated that it did not have any U.S. sales or exports of subject merchandise during the POR, and requested that it should be excluded from answering the Department's questionnaire. On August 20, 2003, YUSCO stated that it did not have any U.S. sales, shipments or entries of subject merchandise during the POR. On August 21, 2003, petitioners urged the Department to instruct Ta Chen and YUSCO to submit a completed Section A questionnaire response and alleged that Ta Chen and YUSCO are affiliated with other companies that may have shipped subject merchandise to the United States during the POR. On September 8, 2003, we sent an inquiry to U.S. Customs and Border Protection (“CBP”) to confirm that YUSCO and Ta Chen had no shipments of subject merchandise into the United States during the POR. CBP did not indicate that there were any entries of subject merchandise by Ta Chen or YUSCO during the POR.

On March 11, 2003, the Department amended the scope of the antidumping duty orders to remove the original language from the scope which excluded cold-rolled stainless steel plate in coils, in accordance with the Court of International Trade's (“CIT”) decision in Allegheny Ludlum Corp. v. United States, 287 F.3d 1365 (Fed. Cir. 2000). See Notice of Amended Antidumping Duty Orders: Certain Stainless Steel Plate in Coils from Belgium, Cananda, Italy, the Republid of Korea, South Africa, and Taiwan, 68 FR 11520, (March 11, 2003) (“Scope of the Review”). Therefore, the new scope was effective March 11, 2003. SeeScope of the Review below.

Scope of the Review

Effective: May 1, 2002 through March 10, 2003

For purposes of this review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this petition are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process.

The merchandise subject to this review is currently classifiable in the Harmonized Tariff Schedule of the United States (HTS) at subheadings: 7219110030, 7219110060, 7219120005, 7219120020, 7219120025, 7219120050, 7219120055, 7219120065, 7219120070, 7219120080, 7219310010, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTS subheadings are provided for convenience and Customs purposes, the written description of the merchandise under investigation is dispositive.

Effective March 11, 2003, and in accordance with the CIT's December 12, 2002 opinion in Allegheny Ludhum Corp. v. United States, the scope of the order is as stated below:

Effective: March 11, 2003 through April 30, 2003

The product covered by these orders is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars.

The merchandise subject to this review is currently classifiable in the Harmonized Tariff Schedule of the United States (HTS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and Customs purposes, the written description of the merchandise subject to these orders is dispositive.

Period of Review

The POR is May 1, 2002 through April 30, 2003.

Preliminary Rescission of Review in Part

Pursuant to 19 CFR 351.213(d)(3) of the Department's regulations, the Department may rescind an administrative review, in whole or with respect to a particular exporter or producer, if the Secretary concludes that, during the period covered by the review, there were no entries, exports, or sales of the subject merchandise. Both Ta Chen and YUSCO certified on the record that they did not export subject merchandise to the United States during the POR. The Department then conducted a CBP inquiry. The result of the CBP inquiry affirmed Ta Chen and YUSCO's claims that there were no entries of subject merchandise during the POR.

Petitioners allege Ta Chen and YUSCO were affiliated with other Taiwanese companies during the POR. See Petitioners submission to the Department, dated August 21, 2003. However, the Department has preliminarily determined to rescind this administrative review absent evidence of any entries during the POR. The parties being reviewed in this case are Ta Chen and YUSCO, not the other parties which have been alleged to be affiliated with Ta Chen and YUSCO. Neither the petitioners nor any other party requested an administrative review of Ta Chen's or YUSCO's alleged affiliates. Therefore, absent entries, there is no reason for the Department to conduct an affiliation analysis. If the petitioners believe in future periods of review that other parties potentially affiliated with Ta Chen and YUSCO have exported subject merchandise to the United States, then a review covering those subsequent periods of reviews for those companies should be requested.

The Department is satisfied, after a review of information on the record, certification from YUSCO and Ta Chen of no exports to the United States during the POR and the inquiry on data from CBP, that there were no entries of Ta Chen and YUSCO's stainless steel plate in coils during the POR to the United States. Therefore, the Department is preliminarily rescinding this administrative review. The cash deposit rate for YUSCO will remain at 8.02 percent, for Ta Chen the cash deposit rate will remain at 10.20 percent, and for “all other” producers/exporters of the subject merchandise the cash deposit rate will remain at 7.39 percent, the rates established in the most recently completed segment of this proceeding. See Notice of Final Results and Rescission in Part of Antidumping Duty Administrative Review: Stainless Steel Plate in Coils From Taiwan, 68 FR 63067 (November 7, 2003).Pursuant to 19 CFR 351.309, interested parties may submit written comments in response to this preliminary rescission. Case briefs must be submitted within 30 days after the date of publication of this notice and rebuttal briefs, limited to arguments raised in the case briefs, must be submitted no later than 7 days after the time limit for filing case briefs. Case and rebuttal briefs must be served on interested parties in accordance with 19 CFR 351.303(f).

This administrative review and notice is published in accordance with sections 751(a)(1) and 777(i)(1) of the Act.

Dated: December 9, 2003.
James J. Jochum,
Assistant Secretary for Import Administration.

[FR Doc. 03-31015 Filed 12-15-03; 8:45 am]

BILLING CODE 3510-DS-S